DEPARTMENT OF HEALTH AND HUMAN SERVICES

Centers for Disease Control and Prevention

[60Day-06-06AO]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-4766 and send comments to Seleda Perryman, CDC Assistant Reports Clearance Officer, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluation of a Targeted Dissemination of Occupational Safety and Health (OSH) Information to a Sample from the Small Business Wood Pallet Industry—NEW—National Institute for Occupational Safety and Health (NIOSH), Centers for Disease Control and Prevention (CDC).

Background and Brief Description

The Federal Occupational Safety and Health Act of 1970, Section 501, enables CDC/NIOSH to carry out research relevant to the health and safety of workers. The goal of this project is to determine whether receipt of a NIOSH informational manual about occupational safety and health (OSH) concerns specific to pallet manufacturing and recycling will motivate owners or managers to take actions resulting in a safer workplace. The theoretical basis of the study follows the Transtheoretical Model (TTM) of Prochaska and DiClemente [1984]. This model states that change is defined by 5 stages: (1) Pre-contemplation—people are unaware of problems and are not thinking seriously about changing within the next 6 months, (2) contemplation—the stage where people become aware that a problem exists and intend to take action within the next 6 months, (3) preparation—investigating options and intending to take action in the next 30 days, (4) action—people institute environmental changes and change their overt behavior, and (5) maintenance—people continue the gains obtained during the action stage for longer than 6 months.

Small business entrepreneurship is a vital component of the U.S. economy. OSH activities, including research, regulation, enforcement, and intervention historically have not focused on small businesses despite their predominance and relatively large numbers of employees overall. Few small business establishments provide on-site occupational health units, medical screening tests, pre-placement physicals, or employ or use industrial hygiene or safety personnel/consultants. As a consequence, prevention of occupational injury and illness is often difficult in small business establishments because they generally have few safety and health resources, do not hire staff devoted to safety and health activities, and often lack the ability to identify occupational hazards and conduct surveillance.

The pallet manufacturing industry has higher injury rates than general industry. The incidence rate for non-fatal injuries in the wood pallet and skid (SIC 2448) manufacturing industry was 226% greater than that for general industry. The types of injuries sustained at wood pallet manufacturers and their incidence rates [2002] compared to general industry included amputations (2220% higher, i.e, over 20 times greater), cuts and punctures (378% higher), fractures (237% higher), bruises (221% higher) sprains and strains (133% higher) and back pain (305% higher).

Through this study, NIOSH will evaluate the feasibility and effectiveness of providing carefully constructed OSH information to one segment of small business pallet makers. The informational manual will be divided into eight chapters targeting specific hazards relevant to pallet work and will provide the owners/managers with suggestions for controlling those hazards. Chapters were selected based on prior NIOSH site visits to a sample of pallet makers and in consultation with the National Wood Pallet and Container Association. The chapters include: an introduction to OSH, developing a site-specific safety program, controlling noise, improving ventilation, saw safety, forklift safety, preventing build up of carbon monoxide, and prevention of musculoskeletal injury through ergonomics.

This project will utilize two groups—a treatment group and a control group—in a pre-post design. One hundred eighty pallet companies will be randomly selected and assigned to six groups from a list of small pallet businesses in the United States that was provided by a market research firm. Both groups will participate in a baseline survey conducted by telephone. The treatment group will then receive the NIOSH informational manual by mail and the control group will not receive the manual until the conclusion of the study. Five months after the mailing, both groups will participate in a follow-up telephone survey designed to assess whether receipt and use of the material encouraged owners/managers to contemplate, plan, or initiate OSH changes at their facility. The questionnaire will determine whether owners/managers have progressed from baseline along the stage of change continuum because of receipt and use of the NIOSH material, or if some other factor is influencing their safety and health actions. It is possible that improvements in OSH may occur due to other influences and not from the informational manual. For example, it is possible that some event will occur that will make the entire industry more aware of OSH. Use of a similar control group will help in this determination. Data collection will occur within a one year period. However, the entire NIOSH study will occur over a three-year period. There will be no cost to respondents except their time to participate in the telephone survey.

Estimated Annualized Burden Table

Respondents | Number of respondents | Number of responses per respondent | Average burden per response (in hours) | Total burden (in hours)
Treatment group-initial survey | 90 | 1 | 12/60 | 18
Treatment group-Second survey | 90 | 1 | 15/60 | 22.5
Control group-initial survey | 90 | 1 | 12/60 | 18
Control group-second survey | 90 | 1 | 9/60 | 13.5
Total |  |  |  | 72

Dated: December 16, 2005.
Joan F. Karr,
Acting Reports Clearance Officer, Centers for Disease Control and Prevention.

[FR Doc. E5-7861 Filed 12-23-05; 8:45 am]

BILLING CODE 4163-18-P